DEPARTMENT OF EDUCATION

Notice of Extension of Project Period and Waiver

AGENCY: Office of Special Education Programs, Office of Special Education and Rehabilitative Services, Department of Education.

ACTION: Notice of extension of project period and waiver.

SUMMARY: The Secretary waives the requirements in Education Department General Administrative Regulations (EDGAR), at 34 CFR 75.250 and 75.261(a), that generally prohibit project periods exceeding 5 years and project extensions involving the obligation of additional Federal funds to enable the Technical Assistance ALLIANCE for Parent Centers to receive funding from October 1, 2002 until March 31, 2003.

EFFECTIVE DATE: August 28, 2002.

FOR FURTHER INFORMATION CONTACT: For further information contact Debra Sturdivant or Donna Fluke, U.S. Department of Education, 400 Maryland Avenue, SW., room 3527, Switzer Building, Washington, DC 20202-2641. Telephone: (202) 205-8038 and 205-9161, respectively. FAX: (202) 205-8105. If you prefer to use the Internet, use the following address: Debra_Sturdivant@ed.gov, or Donna_Fluke@ed.gov.

If you use a telecommunication device for the deaf (TDD), you may call the Federal Information Relay Service (FIRS) at 1-800-877-8339.

Individuals with disabilities may obtain this document in an alternative format (e.g., Braille, large print, audiotape, or computer diskette) on request to the above-listed contact persons.

SUPPLEMENTARY INFORMATION: In order to foster more efficient use of the Federal funds, the Secretary intends to redesign the technical assistance component of the Training and Information for Parents of Children with Disabilities program and provide funding in fiscal year 2003.

However, the grant for the current technical assistance provider, the Technical Assistance Alliance for Parent Centers will expire, after a 5-year project period, on September 30, 2002. Technical assistance is provided on an ongoing basis to parent centers, and it would be contrary to the public interest to have any service lapses for the parent centers being served by the current grantee. This would also include planning for, and conducting a scheduled annual National conference to be held in January 2003. The conference provides a forum for all of the parent centers to network, and participate in topical workshops and attend plenary sessions to learn about current research and best practices from National experts.

To avoid any lapse in service for the intended beneficiaries before the redesigned technical assistance component can be implemented, the Secretary has decided to fund this project until March 31, 2003. However, to do so, the Secretary has waived the requirements in 34 CFR 75.250 and 75.261(c)(2), which prohibit project periods exceeding 5 years and period extensions that involve the obligation of additional Federal funds.

Waiver of Proposed Rulemaking

In accordance with the Administrative Procedure Act (5 U.S.C. 553), it is the practice of the Secretary to offer interested parties the opportunity to comment on proposed rulemaking. However, the waiver of the requirements in 34 CFR 75.250 and 75.261 applicable to the maximum project period and extension of the project period for this grant on a one-time only basis is procedural and does not establish new substantive policy. Therefore, under 5 U.S.C. 553(b)(A), proposed rulemaking is not required.

In addition, given the fact that the additional period of funding is only for a six-month period, the Secretary has determined that proposed rulemaking on this waiver is unnecessary and impracticable. Thus, proposed rulemaking also is not required under 5 U.S.C. 553(b)(B).

Regulatory Flexibility Act Certification

The Secretary certifies that the waiver and extension of the project period will not have a significant economic impact on a substantial number of small entities. The only small entity that would be affected is the PACER Center, Inc., which operates the Technical Assistance ALLIANCE for Parent Centers project.

Paperwork Reduction Act of 1980

This extension and waiver does not contain any information collection requirements.

Intergovernmental Review

This program is subject to the requirements of Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Format (PDF) on the Internet at following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

(Catalog of Federal Domestic Assistance Number 84.328, Training and Information for Parents of Children with Disabilities)
Dated: July 19, 2002.
Robert H. Pasternack,
Assistant Secretary for Special Education and Rehabilitative Services.

[FR Doc. 02-19078 Filed 7-26-02; 8:45 am]

BILLING CODE 4000-01-P